DEPARTMENT OF TRANSPORTATION

Federal Aviation Administration

14 CFR Part 71

[Docket No. FAA-2008-0006; Airspace Docket No. 08-ANM-1]

Establishment of Class D Airspace and Amendment of Class E Airspace; North Bend, OR

AGENCY: Federal Aviation Administration (FAA), DOT.

ACTION: Final rule.

SUMMARY: This action will establish Class D airspace and amend Class E airspace at Southwest Oregon Regional Airport, North Bend, OR. The establishment of an air traffic control tower has made this action necessary for the safety and management of aircraft within this airspace. This action will also update the name of the airport from North Bend Municipal Airport, North Bend, OR. This action will also make a minor correction to the geographic coordinates of the North Bend VORTAC and the Emire LOM/NDB.

DATES: Effective Date: 0901 UTC, October 22, 2009. The Director of the Federal Register approves this incorporation by reference action under title 1, Code of Federal Regulations, part 51, subject to the annual revision of FAA Order 7400.9 and publication of conforming amendments.

FOR FURTHER INFORMATION CONTACT: Eldon Taylor, Federal Aviation Administration, Operations Support Group, Western Service Area, 1601 Lind Avenue, SW., Renton, WA 98057; telephone (425) 203-4537.

SUPPLEMENTARY INFORMATION:

History

On March 14, 2008, the FAA published in the Federal Register a notice of proposed rulemaking (NPRM) to establish Class D airspace and amend Class E airspace at North Bend, OR (73 FR 13809). Interested parties were invited to participate in this rulemaking effort by submitting written comments on this proposal to the FAA. No comments were received. With the exception of editorial changes, and the changes described above, this rule is the same as that proposed in the NPRM. Class D and E airspace areas are published in Paragraph 5000 and 6002, respectively, of FAA Order 7400.9S signed October 3, 2008, and effective October 31, 2008, which is incorporated by reference in 14 CFR 71.1. The Class D and E airspace designations listed in this document will be published subsequently in the Order.

The Rule

This action amends Title 14 Code of Federal Regulations (14 CFR) part 71 by establishing Class D airspace and amending Class E airspace at Southwest Oregon Regional Airport, North Bend, OR. The establishment of an air traffic control tower has made this action necessary for the safety and management of aircraft within this airspace. This airspace area is effective during the specific dates and times established in advance by a Notice to Airmen. This action will also update the name of the airport from North Bend Municipal Airport, North Bend, OR. Additionally, this action corrects the geographic coordinates of the North Bend VORTAC and the Emire LOM/NDB in the Class E2 airspace area. The FAA has determined that this regulation only involves an established body of technical regulations for which frequent and routine amendments are necessary to keep them operationally current. Therefore, this regulation: (1) Is not a “significant regulatory action” under Executive Order 12866; (2) is not a “significant rule” under Department of Transportation Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the U.S. Code. Subtitle 1, Section 106, describes the authority for the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes Class D airspace and amends Class E airspace at Southwest Oregon Regional Airport, North Bend, OR.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9S, Airspace Designations and Reporting Points, signed October 3, 2008, and effective October 31, 2008, is amended as follows:

Paragraph 5000 Class D Airspace.

* * * * *

ANM OR D North Bend, OR [New]

North Bend Municipal Airport, OR

(Lat. 43°25′02″ N., long. 124°14′46″ W.)

That airspace extending upward from the surface to and including 2,500 feet MSL within a 4.2-mile radius of the Southwest Oregon Regional Airport. This Class D airspace area is effective during the specific dates and times established in advance by a Notice to Airmen. The effective date and time will thereafter be continuously published in the Airport/Facility Directory.

* * * * *

Paragraph 6002 Class E Airspace Designated as Surface Areas.

* * * * *

ANM OR E2 North Bend, OR [Amended]

North Bend Municipal Airport, OR

(Lat. 43°25′02″ N., long. 124°14′46″ W.)

North Bend VORTAC

(Lat. 43°24′56″ N., long. 124°10′07″ W.)

Emire LOM/NDB

(Lat. 43°23′40″ N., long. 124°18′37″ W.)

Within a 4.2-mile radius of the Southwest Oregon Regional Airport, and within 1.8 miles each side of the North Bend VORTAC 044° radial extending from the 4.2-mile radius to 5.7 miles northeast of the VORTAC, and within 3.7 miles each side of the North Bend VORTAC 092° radial extending from the 4.2-mile radius to 7.5 miles east of the VORTAC, and within 2.7 miles each side of the 241° bearing from the Emire LOM/NDB extending from the 4.2-mile radius to 6.1 miles southwest of the LOM/NDB. This Class E airspace area is effective during the specific dates and times established in advance by a Notice to Airmen. The effective date and time will thereafter be continuously published in the Airport/Facility Directory.

* * * * *

Issued in Seattle, Washington, on August 14, 2009.
H. Steve Karnes,
Team Manager, Operations Support Group, Western Service Center.

[FR Doc. E9-20282 Filed 8-25-09; 8:45 am]

BILLING CODE 4910-13-P